DEPARTMENT OF ENERGY

Federal Energy Regulatory Commission

Combined Notice of Filings #2

Take notice that the Commission received the following electric corporate filings:

Docket Numbers: EC15-9-000.

Applicants: Duke Energy Progress, Inc.

Description: Application for Authorization to Transfer Jurisdictional Assets Under Section 203 of the Federal Power Act of Duke Energy Progress, Inc.

Filed Date: 10/10/14.

Accession Number: 20141010-5155.

Comments Due: 5 p.m. ET 10/31/14.

Take notice that the Commission received the following exempt wholesale generator filings:

Docket Numbers: EG15-4-000.

Applicants: Mesquite Creek Wind LLC.

Description: Self-Certification of EG or FC of Mesquite Creek Wind LLC.

Filed Date: 10/10/14.

Accession Number: 20141010-5090.

Comments Due: 5 p.m. ET 10/31/14.

Docket Numbers: EG15-5-000.

Applicants: Sky Global Power One, LLC.

Description: Notice of Self-Certification of Exempt Wholesale Generator of Sky Global Power One, LLC.

Filed Date: 10/10/14.

Accession Number: 20141010-5122.

Comments Due: 5 p.m. ET 10/31/14.

Take notice that the Commission received the following electric rate filings:

Docket Numbers: ER14-2678-001.

Applicants: Midcontinent Independent System Operator, Inc.

Description: Tariff Amendment per 35.17(b): 2014-10-10_SA 2684 Amended GRE-MP Ortman T-T IA to be effective 8/20/2014.

Filed Date: 10/10/14.

Accession Number: 20141010-5095.

Comments Due: 5 p.m. ET 10/31/14.

Docket Numbers: ER14-2894-001.

Applicants: Bounce Energy NY, LLC.

Description: Tariff Amendment per 35.17(b): Amendment to 128 to be effective 10/10/2014.

Filed Date: 10/10/14.

Accession Number: 20141010-5000.

Comments Due: 5 p.m. ET 10/31/14.

Docket Numbers: ER14-2896-001.

Applicants: Bounce Energy PA, LLC.

Description: Tariff Amendment per 35.17(b): Amendment to 129 to be effective 10/10/2014.

Filed Date: 10/10/14.

Accession Number: 20141010-5001.

Comments Due: 5 p.m. ET 10/31/14.

Docket Numbers: ER15-72-000.

Applicants: Southwest Power Pool, Inc.

Description: § 205(d) rate filing per 35.13(a)(2)(iii): 1976R3 Kaw Valley Electric Cooperative, Inc. NITSA and NOA to be effective 8/1/2014.

Filed Date: 10/10/14.

Accession Number: 20141010-5075.

Comments Due: 5 p.m. ET 10/31/14.

Docket Numbers: ER15-73-000.

Applicants: California Independent System Operator Corporation.

Description: § 205(d) rate filing per 35.13(a)(2)(iii): 2014-10-10_SVP_MSSA to be effective 11/1/2014.

Filed Date: 10/10/14.

Accession Number: 20141010-5100.

Comments Due: 5 p.m. ET 10/31/14.

Docket Numbers: ER15-74-000.

Applicants: Duke Energy Progress, Inc.

Description: § 205(d) rate filing per 35.13(a)(2)(iii): DEP-NCEMPA Wholesale PPA and Amendments to Rate Schedules to be effective 12/10/2014.

Filed Date: 10/10/14.

Accession Number: 20141010-5134.

Comments Due: 5 p.m. ET 10/31/14.

Docket Numbers: ER15-75-000.

Applicants: PacifiCorp.

Description: § 205(d) rate filing per 35.13(a)(2)(iii): Revised Network Integration Transmission SAs (BAL-002) to be effective 10/1/2014.

Filed Date: 10/10/14.

Accession Number: 20141010-5143.

Comments Due: 5 p.m. ET 10/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2014.
Nathaniel J. Davis, Sr.,
Deputy Secretary.

[FR Doc. 2014-24889 Filed 10-17-14; 8:45 am]

BILLING CODE 6717-01-P